DEPARTMENT OF ENERGY

Office of Energy Efficiency and Renewable Energy

[Docket No. EERE-2014-BT-NOA-0016]

Physical Characterization of Smart and Grid-Connected Commercial and Residential Buildings End-Use Equipment and Appliances

AGENCY: Office of Energy Efficiency and Renewable Energy, Department of Energy.

ACTION: Extension of public comment period.

SUMMARY: This document announces an extension of the time period for submitting comments on the request for information, published on April 8, 2014, regarding the physical characterization of smart and grid-connected buildings end-use equipment and appliances. The comment period is extended to Monday, June 23, 2014. The U.S. Department of Energy (DOE) is soliciting comment and data from the public on a variety of issues related to the physical characterization of smart and grid-connected commercial and residential buildings end-use equipment and appliances; including but not limited to processes and metrics for measurement, identification of grid and building services that can be provided, and identification of values and benefits of grid connectivity. DOE also welcomes written comments from the public on any subject relevant (including topics not raised in this notice).

DATES: The comment period for the request for information regarding the physical characterization of smart and grid-connected buildings published on April 8, 2014 (79 FR 19322) is extended to June 23, 2014.

ADDRESSES: Any comments submitted must identify the request for comment for physical characterization of smart and grid-connected buildings and provide docket number EERE-2014-BT-NOA-0016 by any of the following methods:

• Email: ConnectedBuildings2014NOA0016@ee.doe.gov. Include the docket number EERE-2014-BT-NOA-0016 in the subject line of the message.

• Mail: Mr. Joseph Hagerman, U.S. Department of Energy, Building Technologies Office, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Mr. Joseph Hagerman, U.S. Department of Energy, Building Technologies Program, 950 L'Enfant Plaza SW., Suite 600, Washington, DC 20024. If possible, please submit all items on CD, in which case it is not necessary to include printed copies.

Docket: The docket is available for review at www.regulations.gov, including Federal Register notices, framework documents, public meeting attendee lists and transcripts, comments, and other supporting documents/materials. All documents in the docket are listed in the www.regulations.gov index.

FOR FURTHER INFORMATION CONTACT: Mr. Joseph Hagerman, U.S. Department of Energy, Office of Building Technologies (EE-5B), 950 L'Enfant Plaza SW., Washington, DC 20024. Phone: (202) 586-4549. Email: joseph.hagerman@ee.doe.gov

SUPPLEMENTARY INFORMATION: On April 8, 2014, the U.S. Department of Energy (DOE) published a request for comment and notice of public meeting document in the Federal Register (79 FR 19322). The notice requested public comment from interested parties regarding specific as well as general questions and information provided for the submission of comments by May 23, 2014. The Air-Conditioning, Heating, and Refrigeration Institute (AHRI) requested that DOE extend the comment period by 30 days. AHRI stated that the additional time is necessary in order to allow for review of and substantive comment on the significant questions to which DOE is seeking response.

Based on AHRI's request, DOE believes that extending the comment period to allow additional time for interested parties to submit comments is appropriate. Therefore, DOE is extending the comment period until Monday, June 23, 2014 to provide interested parties additional time to prepare and submit comments and will consider any comments received by that date.

Issued in Washington, DC, on May 14, 2014.
Kathleen B. Hogan,
Deputy Assistant Secretary for Energy Efficiency, Energy Efficiency and Renewable Energy.

[FR Doc. 2014-11764 Filed 5-20-14; 8:45 am]

BILLING CODE 6450-01-P